DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-1243.

Project: Drug Abuse Warning Network (OMB No. 0930-0078)—Revision

The Drug Abuse Warning Network (DAWN) is an ongoing data system that collects information on drug-related medical emergencies as reported from about 350 hospitals nationwide, and drug-related deaths as reported from 11 states with centralized Medical Examiner offices and 125 medical examiners/coroner jurisdictions (ME/C) in 32 metropolitan areas. DAWN provides national and metropolitan estimates of substances involved with drug-related emergency department (ED) visits; disseminates information about substances involved in deaths investigated by participating medical examiners and coroners (ME/Cs); tracks drug abuse patterns, trends, and the emergence of new substances; monitors post-market adverse drug incidents; assesses health hazards associated with the use of illicit, prescription, and over-the-counter drugs; and generates information for national and local drug abuse policy and program planning. DAWN data are used by Federal, State, and local agencies, as well as universities, pharmaceutical companies, and the media.

From 2009 to 2011, DAWN will continue to recruit hospitals in the 13 oversampled metropolitan areas and in the remainder of the U.S. in order to improve the precision of estimates, adding approximately 43 sampled hospitals that are currently not participating. This additional recruitment is possible as the transition to the new sample is finalized. When hospitals from the old sample are phased out, they can be replaced with hospitals from the new sample. In 2009 and 2010, DAWN plans to recruit 2 States with centralized ME/C systems. To achieve full participation by ME/Cs in the metropolitan areas currently covered, DAWN plans to recruit approximately 20 more ME/Cs from the 13 metropolitan areas, and approximately 20 ME/Cs from metropolitan areas in the rest of the country. DAWN data are submitted electronically, using eHERS (electronic Hospital Emergency Reporting System) and eMERS (electronic Medical Examiner Reporting System). In most of the facilities participating in DAWN (83 percent of the EDs and 58 percent of the ME/C offices), data are collected by government contractor staff; these facilities are not included in the burden statement because the facility staff are not involved in data collection. The annual burden estimates for those EDs and ME/C offices that collect the data using their own staff are shown below. There will be minor editorial changes to both the ED and ME/C reporting forms to simplify reporting. On the ME/C reporting form, a data element for case narrative will be added. These changes are not anticipated to impact the overall burden.

Annualized Reporting Burden for DAWN: 2009-2011
Activity | Number of respondents ¹ | Estimated number of responses per respondent | Total responses | Estimated time per response (in minutes) | Total hour burden ²
Emergency Departments
ED Chart review | 61 | 24,551 | 1,497,611 | 2.5 | 62,400
Case data entry | 61 | 556 | 33,916 | 3 | 1,696
ED activity report | 61 | 52 | 3,172 | 2 | 106
Subtotal | 61 |  |  |  | 64,202
State Medical Examiners ¹
Death investigation records review | 6 | 3,099 | 18,594 | 4 | 1,240
Case data entry | 6 | 338 | 2,028 | 3 | 101
ME/C activity report | 6 | 104 | 624 | 2 | 21
Subtotal | 6 |  |  |  | 1,362
Individual Medical Examiners/Coroners ¹
Death investigation records review | 84 | 1,097 | 92,148 | 4 | 6,143
Case data entry | 84 | 89 | 7,476 | 3 | 374
ME/C activity report | 84 | 52 | 4,368 | 2 | 146
Subtotal | 84 |  |  |  | 6,663
TOTAL | 151 |  |  |  | 72,227
¹ State MEs and some other ME/C offices report for multiple jurisdictions. For this reason, the number of respondents is smaller than the number of ME/C jurisdictions participating in DAWN.
² Row and column totals may differ due to rounding.

Written comments and recommendations concerning the proposed information collection should be sent by September 25, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 15, 2008.
Elaine Parry,
Acting Director, Office of Program Services.

[FR Doc. E8-19483 Filed 8-25-08; 8:45 am]

BILLING CODE 4162-20-P